INTERNATIONAL TRADE COMMISSION

[Investigation Nos. 701-TA-540, 542-544 and 731-TA-1283, 1285, 1287, and 1289-1290 (Final)]

Cold-Rolled Steel Flat Products From Brazil, India, Korea, Russia, and the United Kingdom; Determinations

On the basis of the record ¹ developed in the subject investigations, the United States International Trade Commission (“Commission”) determines, pursuant to the Tariff Act of 1930 (“the Act”), that an industry in the United States is materially injured by reason of imports of cold-rolled steel flat products from Brazil, India, Korea, and the United Kingdom, provided for in subheadings 7209.15, 7209.16, 7209.17, 7209.18, 7209.25, 7209.26, 7209.27, 7209.28, 7209.90, 7210.70, 7211.23, 7211.29, 7211.90, 7212.40, 7225.50, 7225.99, and 7226.92 of the Harmonized Tariff Schedule of the United States, that have been found by the Department of Commerce (“Commerce”) to be sold in the United States at less than fair value (“LTFV”), and to be subsidized by the governments of Brazil and Korea. The Commission further determines that an industry in the United States is threatened with material injury by reason of imports of cold-rolled steel flat products that have been found by Commerce to be subsidized by the government of India.² The Commission also determines that imports of cold-rolled steel flat products from Russia that are sold in the United States at LTFV and subsidized by the government of Russia are negligible.

¹ The record is defined in sec. 207.2(f) of the Commission's Rules of Practice and Procedure (19 CFR 207.2(f)).

² Commissioner F. Scott Kieff dissenting. Commissioner Kieff determines that imports subsidized by the government of India are negligible.

Background

The Commission, pursuant to sections 705(b) and 735(b) of the Act (19 U.S.C. 1671d(b) and 19 U.S.C. 1673d(b)), instituted these investigations effective July 28, 2015, following receipt of a petition filed with the Commission and Commerce by AK Steel Corporation (West Chester, Ohio), ArcelorMittal USA LLC (Chicago, Illinois), Nucor Corporation (Charlotte, North Carolina), Steel Dynamics, Inc. (Fort Wayne, Indiana), and United States Steel Corporation (Pittsburgh, Pennsylvania). The final phase of the investigations was scheduled by the Commission following notification of preliminary determinations by Commerce that imports of cold-rolled steel flat products from Brazil, India, Korea, and Russia were subsidized within the meaning of section 703(b) of the Act (19 U.S.C. 1671b(b)) and imports of cold-rolled steel flat products imported from Brazil, India, Korea, Russia, and the United Kingdom were dumped within the meaning of 733(b) of the Act (19 U.S.C. 1673b(b)). Notice of the scheduling of the final phase of the Commission's investigations ³ and of a public hearing to be held in connection therewith was given by posting copies of the notice in the Office of the Secretary, U.S. International Trade Commission, Washington, DC, and by publishing the notice in the Federal Register on March 23, 2016 (81 FR 15559). The hearing was held in Washington, DC, on May 24, 2016, and all persons who requested the opportunity were permitted to appear in person or by counsel.

³ The Commission also scheduled a final-phase countervailing duty investigation concerning cold-rolled flat products from Korea, although Commerce preliminarily determined that de minimis countervailable subsidies were being provided to producers/exporters of certain cold-rolled steel flat products from Korea.

The Commission made these determinations pursuant to sections 705(b) and 735(b) of the Act (19 U.S.C. 1671d(b) and 19 U.S.C. 1673d(b)). It completed and filed its determinations in these investigations on September 12, 2016. The views of the Commission are contained in USITC Publication 4637 (September 2016), entitled Cold-Rolled Steel Flat Products from Brazil, India, Korea, Russia, and the United Kingdom: Investigation Nos. 701-TA-540 and 542-544 and 731-TA-1283, 1285, 1287, and 1289-1290 (Final).

By order of the Commission.
Issued: September 12, 2016.
Lisa R. Barton,
Secretary to the Commission.

[FR Doc. 2016-22297 Filed 9-15-16; 8:45 am]

BILLING CODE 7020-02-P